DEPARTMENT OF TRANSPORTATION

Federal Aviation Administration

Notice of Charter Renewal, RTCA, Inc. (Utilized as an Advisory Committee)

AGENCY: Federal Aviation Administration (FAA), DOT.

ACTION: Notice of RTCA Charter Renewal.

SUMMARY: The FAA is issuing this notice to advise the public of the renewal of the RTCA Charter (FAA Order 1110.77Q) for two years, effective April 4, 2005. The Administrator is the sponsor of the committee. The objective of the advisory committee is to seek solutions to problems involving applied technology (for example, electronics, computers, and telecommunications) to aeronautical operations that impact the future air traffic management system. The solutions are often about recommended minimum operational performance standards and technical guidance documents that are acceptable to Government, industry, and users. Standards ensure equivalent performance of the same generic equipment built by different manufacturers. Government regulatory and procurement practices reference or use RTCA standards (with or without change). The Secretary of Transportation has determined that the information and use of the committee are necessary in the public interest in connection with the performance of duties imposed on the FAA by law.

FOR FURTHER INFORMATION CONTACT: RTCA Secretariat, 1828 L Street, NW., Suite 805, Washington, DC 20036; telephone (202) 833-9339; fax (202) 833-9434; Web site http://www.rtca.org., or the FAA Office of Operations Planning, NAS Technical Engineering (ATO-P), 800 Independence Avenue, SW., Washington, DC: telephone (202) 385-7100; fax (202) 385-7105.

SUPPLEMENTARY INFORMATION: Steering Committee and Special Committee meetings are open to the public and announced in the Federal Register, except as authorized by Section 10(d) of the Federal Advisory Committee Act.

Issued in Washington, DC, on April 4, 2005.
Natalie Ogletree,
General Engineer, RTCA Advisory Committee.

[FR Doc. 05-7217 Filed 4-8-05; 8:45 am]

BILLING CODE 4910-13-M